DEPARTMENT OF HEALTH AND HUMAN SERVICES

Administration for Children and Families

Notice of Correction for the Discretionary Funds for Projects To Establish Individual Development Account (IDA) Programs for Refugees

AGENCY: Administration for Children and Families, ACF, DHHS.

ACTION: Notice of correction.

Funding Opportunity Title: Discretionary Funds for Projects to Establish Individual Development Account (IDA) Programs for Refugees.

Funding Opportunity Number: HHs-2005-ACF-ORR-ZI-0093.

SUMMARY: This notice is to inform interested parties of clarifications made to the Discretionary Funds for Projects to Establish Individual Development Account (IDA) Programs for Refugees published on Monday, June 6, 2005. The following clarifications should be noted:

Section IV.3 stated the following:

• “3. Submission Dates and Times

Due Date for Applications: August 5, 2005.”

The language in section IV.3 is replaced with:

• “3. Submission Dates and Times

Due Date for Applications: July 21, 2005.”

Executive Summary: A footnote was omitted in relation to the word “refugee”.

The omitted footnote in the Executive Summary should state: Refugee [1]

[1] Eligibility for refugee social services includes: (1) Refugees; (2) asylees; (3) Cuban and Haitian entrants under section 501 of the Refugee Education Assistance Act of 1980 (Pub. L. 96-422); (4) certain Amerasians from Vietnam who are admitted to the U.S. as immigrants under section 584 of the Foreign Operations, Export Financing, and Related Programs Appropriations Act, as included in the FY 1988 Continuing Resolution (Pub. L. 100-202); (5) certain Amerasians from Vietnam who are U.S. citizens under Title II of the Foreign Operations, Export Financing, and Related Programs Appropriations Act of 1989 (Pub. L. 100-461), 1990 (Pub. L. 101-167), and 1991 (Pub. L. 101-513); and (6) victims of a severe form of trafficking who receive certification or eligibility letters from ORR (see 45 CFR 400.43 and ORR State Letters Number 01-13 as modified by Number 02-01 and Number 04-12 on trafficking victims). For convenience, the term “refugee” is used in this notice to encompass all such eligible persons. Additional information on eligibility is available at: http://www.acf.hhs.gov/programs /orr/policy/sl01-13.htm and http://www.acf.hhs.gov/programs /orr/policy/sl02-01.htm.

Dated: June 18, 2005.
Nguyen Van Hanh,
Director, Office of Refugee Resettlement.

[FR Doc. 05-11831 Filed 6-15-05; 8:45 am]

BILLING CODE 4184-01-P